DEPARTMENT OF ENERGY

[FE Docket No. 05-27-NG]

Office of Fossil Energy; Ocean State Power II; Order Granting Authority to Import Natural Gas From Canada

AGENCY: Office of Fossil Energy, DOE.

ACTION: Notice of order.

SUMMARY: The Office of Fossil Energy (FE) gives notice that it issued DOE/FE Order No. 2105 granting Ocean State Power II authority to import up to 25,339 million British thermal units per day of natural gas from Canada, under a North American Energy Standards Board base contract with ProGas Limited, for a term of three years that began on March 1, 2005.

This Order may be found on the FE Web site at http://www.fe.doe.gov (select gas regulation). It is also available for inspection and copying in the Office of Natural Gas Regulatory Activities Docket Room, 3E-033, Forrestal Building, 1000 Independence Avenue, SW., Washington, DC 20585-0334, (202) 586-9478. The Docket Room is open from 8 a.m. to 4:30 p.m., Monday through Friday, except Federal holidays.

Issued in Washington, DC, July 20, 2005.
R.F. Corbin,
Manager, Natural Gas Regulatory Activities, Office of Global Supply and Security, Office of Fossil Energy.

[FR Doc. 05-14693 Filed 7-25-05; 8:45 am]

BILLING CODE 6450-01-P